DEPARTMENT OF COMMERCE

International Trade Administration

[A-560-803]

Notice of Final Results and Partial Recission of Antidumping Duty Administrative Review: Extruded Rubber Thread From Indonesia

AGENCY: Import Administration, International Trade Administration, Department of Commerce.

ACTION: Notice of Final Results and Partial Rescission of Antidumping Duty Administrative Review.

SUMMARY: We determine that sales of the subject merchandise have not been made below normal value (“NV”).

EFFECTIVE DATE: June 14, 2002.

FOR FURTHER INFORMATION CONTACT: James Terpstra or Lyman Armstrong, AD/CVD Enforcement, Office VI, Group II, Import Administration, International Trade Administration, U.S. Department of Commerce, 14th Street and Constitution Avenue, N.W., Washington, D.C. 20230; telephone: (202) 482-3965 or (202) 482-3601, respectively.

SUPPLEMENTARY INFORMATION:

Applicable Statute and Regulations

Unless otherwise indicated, all citations to the Tariff Act of 1930, as amended (“the Act”), are references to the provisions effective January 1, 1995, the effective date of the amendments made to the Act by the Uruguay Round Agreements Act. In addition, unless otherwise indicated, all citations to the Department of Commerce (“the Department”) regulations are to 19 CFR Part 351 (April 2001).

Case History

On February 7, 2002, the Department published the preliminary results of its administrative review of the antidumping duty order on extruded rubber thread from Indonesia. See Notice of Preliminary Results and Partial Rescission of Antidumping Duty Administrative Review: Extruded Rubber Thread from Indonesia, 67 FR 5786 (“Preliminary Results”). As discussed in the preliminary results, this review covers shipments by P.T. Swasthi Parama Mulya (“Swasthi”), during the period of review (“POR”) May 1, 2000 through April 30, 2001. We invited parties to comment on our preliminary results of review. In response to the Department's invitation to comment on the preliminary results of this review, Swasthi, a respondent in the case, submitted a letter stating that it would not file any comments regarding the preliminary results unless in response to other comments filed by other interested parties. See Letter from Swasthi to the Department of Commerce (February 28, 2002). Interested parties did not submit case briefs nor did they request a hearing. There have been no changes since the preliminary results.

Scope of the Review

For purposes of this review, the product covered is extruded rubber thread (“ERT”) from Indonesia. ERT is defined as vulcanized rubber thread obtained by extrusion of stable or concentrated natural rubber latex of any cross sectional shape, measuring from 0.18 mm, which is 0.007 inches or 140 gauge, to 1.42 mm, which is 0.056 inch or 18 gauge, in diameter.

ERT is currently classified under subheading 4007.00.00 of the Harmonized Tariff Schedule (HTS). Although the HTS subheading is provided for convenience and customs purposes, the written description of the scope of this review is dispositive.

Partial Rescission

We originally initiated a review of two companies: Swasthi and Filati Lastex Sdn. Bhd. (“Filati”), (see Notice of Initiation of Antidumping Duty Administrative Review, 66 FR 32934 (June 19, 2001)). However, as noted in the preliminary results, Filati withdrew its request and there were no additional requests for a review of Filati from any other interested party. We received no comments concerning Filati for the final results. Therefore, in accordance with 19 CFR 351.213(d)(3) and consistent with Department practice, we are rescinding our review of Filati (see, e.g., Certain Welded Carbon Steel Pipe and Tube from Turkey: Final Results and Partial Rescission of Antidumping Administrative Review, 63 FR 35190, 35191, (June 29, 1998); see also, Certain Fresh Cut Flowers From Colombia; Final Results and Partial Rescission of Antidumping Duty Administrative Review, 62 FR 53287, 53288 (October 14, 1997)).

Price Comparisons

We calculated export price and NV based on the same methodology described in the Preliminary Results.

Analysis of Comments Received

We gave interested parties an opportunity to comment on the Preliminary Results. As noted above, we received no comments from any party.

Final Results of Review

As a result of our review, we determine that Swasthi had a zero weighted-average margin for the period May 1, 2000 through April 30, 2001.

Assessment Rate

The Department shall determine, and Customs shall assess, antidumping duties on all appropriate entries. Pursuant to 19 CFR 351.212(b), the Department calculated an assessment rate for each importer of the subject merchandise. For assessment purposes, we calculated importer-specific assessment rates for the subject merchandise by aggregating the dumping margins for all U.S. sales to each importer and dividing the amount by the total entered value of the sales to that importer. Where the importer-specific assessment rate is above de minimis we will instruct Customs to assess antidumping duties on that importer's entries of subject merchandise.

Cash Deposit Requirements

The following deposit rates will be effective upon publication of the final results of this administrative review for all shipments of ERT from Indonesia entered, or withdrawn from warehouse, for consumption on or after the publication date, as provided by section 751(a)(2)(C) of the Act: (1) The cash deposit rate for Swasthi will be zero; (2) for previously reviewed or investigated companies, the cash deposit rate will continue to be the company-specific rate published for the most recent final results in which that manufacturer or exporter participated; (3) if the exporter is not a firm covered in this review, a prior review, or the original less-than-fair-value (“LTFV”) investigation, but the manufacturer is, the cash deposit rate will be the rate established for the most recent final results for the manufacturer of the merchandise; and (4) if neither the exporter nor the manufacturer is a firm covered in this or any previous review conducted by the Department, the cash deposit rate will be 24.00 percent, the “All Others” rate established in the LTFV investigation. See Notice of Amended Final Determination of Sales at Less Than Fair Value and Antidumping Duty Order: Extruded Rubber Thread From Indonesia, 64 FR 27755 (May 21, 1999).

These cash deposit requirements, when imposed, shall remain in effect until publication of the final results of the next administrative review.

Notification to Importers

This notice serves as a reminder to importers of their responsibility under 19 CFR 351.402 to file a certificate regarding the reimbursement of antidumping duties prior to liquidation of the relevant entries during this review period. Failure to comply with this requirement could result in the Secretary's presumption that reimbursement of antidumping duties occurred and the subsequent assessment of double antidumping duties.

This notice also serves as a reminder to parties subject to administrative protective order (“APO”) of their responsibility concerning the disposition of proprietary information disclosed under APO in accordance with 19 CFR 351.305. Timely notification of return/destruction of APO materials or conversion to judicial protective order is hereby requested. Failure to comply with the regulations and the terms of an APO is a sanctionable violation.

This determination is issued and published pursuant to sections 751(a) and 777(i) of the Act.

Dated: June 3, 2002.
Faryar Shirzad,
Assistant Secretary for Import Administration.

[FR Doc. 02-15102 Filed 6-13-02; 8:45 am]

BILLING CODE 3510-DS-S